DEPARTMENT OF AGRICULTURE

Submission for OMB Review; Comment Request

July 3, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Outreach/Ethnicity Questionnaires.

OMB Control Number: 0596-NEW.

Summary of Collection: Title VI of the Civil Rights Act prohibits discrimination based on race, color, or national origin in federally assisted or direct programs of the Federal Government. Section 703 in Title VII of the Civil Rights Act prohibits discrimination in employment based on race, color, religion, sex, or national origin in actions affecting employees or applicants for employment. The Forest Service requires outreach and recruitment of diverse candidates as a strategy to create a diverse and multicultural workforce within the agency. The Forest Service will do two questionnaires collecting information regarding ethnicity and race, which program the respondent is currently participating, and information from students attending local college and university career fairs about the effectiveness of information provided by personnel regarding career opportunities in the Forest Service.

Need and Use of the Information: The information will be used to evaluate effectiveness of the Civil Rights Outreach Programs conducted by the Northern Research Station, as well as the Forest Service's Youth Conservation Corps, Hosted programs, Job Corps, and Volunteer programs. This information will assist in the compilation of the Senior Youth and Volunteer Programs Report shared with Congress and other Federal agencies.

Description of Respondents: Individuals or households.

Number of Respondents: 77,500.

Frequency of Reponses: Reporting: Yearly.

Total Burden Hours: 6,458.

Charlene Parker,
Departmental Information Collection Clearance Officer.

[FR Doc. E7-13320 Filed 7-9-07; 8:45 am]

BILLING CODE 3410-11-P